DEPARTMENT OF AGRICULTURE

Animal and Plant Health Inspection Service

[Docket No. APHIS-2024-0043]

Notice of Request for Extension of Approval of an Information Collection; Highly Pathogenic Avian Influenza; Testing, Surveillance, and Reporting of Highly Pathogenic Avian Influenza in Livestock; Dairy Herd Certification

AGENCY: Animal and Plant Health Inspection Service, USDA.

ACTION: Extension of approval of an information collection; comment request.

SUMMARY: In accordance with the Paperwork Reduction Act of 1995, this notice announces the Animal and Plant Health Inspection Service's intention to request an extension of approval of an information collection associated with testing, surveillance, and reporting of the incidence of highly pathogenic avian influenza in dairy cattle, and certification of dairy cattle herds as a result of testing.

DATES: We will consider all comments that we receive on or before October 28, 2024.

ADDRESSES: You may submit comments by either of the following methods:

• Federal eRulemaking Portal: Go to www.regulations.gov. Enter APHIS-2024-0043 in the Search field. Select the Documents tab, then select the Comment button in the list of documents.

• Postal Mail/Commercial Delivery: Send your comment to Docket No. APHIS-2024-0043, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on APHIS' Veterinary Services efforts to control and eradicate HPAI in dairy cattle, contact Dr. Megan Schmid, Assistant Director, Cattle Health Center, VS, APHIS, 2150 Centre Ave., Bldg. B, Fort Collins, CO 80524; (512) 745-9862; email: megan.j.schmid@usda.gov. For more detailed information on the information collection process, contact Mr. Joseph Moxey, APHIS' Paperwork Reduction Act Coordinator; (301) 851-2533; email: joseph.moxey@usda.gov.

SUPPLEMENTARY INFORMATION:

Title: Highly Pathogenic Avian Influenza; Testing, Surveillance, and Reporting of Highly Pathogenic Avian Influenza in Livestock; Dairy Herd Certification.

OMB Control Number: 0579-0494.

Type of Request: Extension of approval of an information collection.

Abstract: The Animal Health Protection Act (AHPA) of 2002 ¹ is the primary Federal law governing the protection of animal health. The law gives the Secretary of the U.S. Department of Agriculture (USDA) broad authority to detect, control, or eradicate pests or diseases of livestock or poultry. The Secretary may also prohibit or restrict the importation or export of any animal or related material if required to prevent the spread of any livestock or poultry pest or disease. Within the USDA, the Animal and Plant Health Inspection Services' (APHIS'), Veterinary Service (VS) is tasked with these missions.

¹ The AHPA is contained in title X, subtitle E, sections 10401-18 of Public Law 107-171, May 13, 2002, the Farm Security and Rural Investment Act of 2002; 7 U.S.C. 8301, et seq.

Highly pathogenic avian influenza (HPAI) is a contagious viral disease of domestic poultry and wild birds. HPAI is deadly to domestic poultry and can wipe out entire flocks within a matter of days. HPAI is a threat to the poultry industry, animal health, human health, trade, and the economy worldwide. In the United States, HPAI H5N1 has been detected in dairy cattle. As of August 23, 2024, USDA has confirmed 192 HPAI H5N1 clade 2.3.4.4b virus detections in cattle in 13 States (Colorado, Kansas, Idaho, Iowa, Michigan, Minnesota, New Mexico, North Carolina, Ohio, Oklahoma, South Dakota, Texas, and Wyoming). APHIS has also confirmed, based on specific phylogenetic evidence and epidemiological information, that 48 poultry premises have also been infected with the same HPAI H5N1 virus genotype detected in dairy cattle.

The USDA has already recognized HPAI as a threat, and APHIS already prohibits the interstate movement of animals infected with HPAI. (See 9 CFR 71.3(b).) However, this new, distinct HPAI H5N1 virus genotype poses a new animal disease risk as it can infect both cattle and poultry. The phylogenetic and epidemiological data indicate spread between dairy premises, and concerningly, given the far more severe effects of the disease in poultry, from dairy premises to poultry premises. The virus is shed in milk at high concentrations. Anything that encounters unpasteurized milk, such as spilled milk, or milk residue, has the potential to spread the virus to humans or other animals, and can contaminate vehicles and other objects or materials. Spread has occurred via not only directly spilled milk but also from contaminated objects. These factors indicate this outbreak is having an immediate and sizeable economic impact that could linger.

On April 24, 2024, APHIS announced a Federal Order ² to assist with developing a baseline of critical information and limiting the spread of H5N1 in dairy cattle. The Federal Order requires testing lactating dairy cattle prior to interstate movement and mandatory reporting from laboratories of positive Influenza A cases in livestock. The Federal Order also requires infected dairy cattle premises to not move lactating dairy cattle interstate for 30 days and to provide epidemiological information, including animal movement tracing, via a questionnaire. Movement of tested, cleared cattle will require a Certificate of Veterinary Inspection and a movement permit. This Federal Order went into effect on April 29, 2024. APHIS is working with State and industry partners to encourage farmers and veterinarians to report cattle illnesses quickly and implement biosecurity measures and response plans (set forth in biosecurity plans, herd monitoring plans, and response and containment plans) so that APHIS can monitor new cases and minimize the impact to farmers, consumers, and other animals.

² https://www.aphis.usda.gov/sites/default/files/dairy-federal-order.pdf.

Along with the Federal Order, APHIS announced that it is reimbursing the National Animal Health Laboratory Network for all pre-movement and other testing (asymptomatic herd testing and testing of suspect animals), as well as providing confirmatory testing at the National Veterinary Services Laboratories. APHIS is also working to strengthen ongoing herd surveillance through the HPAI Dairy Herd Status Program, which will use bulk milk testing.

We are asking the Office of Management and Budget (OMB) to approve our use of this information collection activity for 3 years.

The purpose of this notice is to solicit comments from the public (as well as affected agencies) concerning our information collection. These comments will help us:

(1) Evaluate whether the proposed collection of information is necessary for the control and/or eradication of HPAI in dairy cattle, including whether the information will have practical utility;

(2) Evaluate the accuracy of our estimate of the burden of the collection of information, including the validity of the methodology and assumptions used;

(3) Enhance the quality, use, and clarity of the information to be collected; and

(4) Minimize the burden of the collection of information on those who are to respond, through use, as appropriate, of automated, electronic, mechanical, or other collection techniques or other technologies.

Estimate of burden: The public burden for this collection of information is estimated to average 3.79 hours per response.

Respondents: Dairy cattle producers; State, local, and Tribal governments; laboratory staff; accredited veterinarians; and other individuals, as appropriate.

Estimated annual number of respondents: 6,052.

Estimated annual number of responses per respondent: 23.

Estimated annual number of responses: 136,504.

Estimated total annual burden on respondents: 518,066 hours. (Due to averaging, the total annual burden hours may not equal the product of the annual number of responses multiplied by the reporting burden per response.)

All responses to this notice will be summarized and included in the request for OMB approval. All comments will also become a matter of public record.

Done in Washington, DC, this 26th day of August 2024.
Michael Watson,
Administrator, Animal and Plant Health Inspection Service.

[FR Doc. 2024-19469 Filed 8-28-24; 8:45 am]

BILLING CODE 3410-34-P